INTERNATIONAL TRADE COMMISSION

[Investigation No. 332-487]

Wood Flooring and Hardwood Plywood: Competitive Conditions Affecting the U.S. Industries

AGENCY: United States International Trade Commission.

ACTION: Institution of investigation and scheduling of hearing.

SUMMARY: Following receipt on March 6, 2007, of a request from the Senate Committee on Finance, the Commission instituted investigation No. 332-487, Wood Flooring and Hardwood Plywood: Competitive Conditions Affecting the U.S. Industries, under section 332(g) of the Tariff Act of 1930 (19 U.S.C. 1332(g)).

DATES:

April 11, 2007: Date of institution.

August 22, 2007: Deadline for filing requests to appear at the public hearing.

August 29, 2007: Deadline for filing pre-hearing briefs and statements.

September 13, 2007, 9:30 a.m.: Public hearing.

October 5, 2007: Deadline for filing post-hearing briefs and statements.

December 28, 2007: Deadline for filing written statements.

June 6, 2008: Transmittal of report to the Committee on Finance.

ADDRESSES: All Commission offices, including the Commission's hearing rooms, are located in the United States International Trade Commission Building, 500 E Street, SW., Washington, DC. All written submissions, including requests to appear at the hearing, statements, and briefs, should be addressed to the Secretary, United States International Trade Commission, 500 E Street, SW., Washington, DC 20436. The public record for this investigation may be viewed on the Commission's electronic docket (EDIS) at http://edis.usitc.gov.

FOR FURTHER INFORMATION CONTACT: Industry-specific information may be obtained from Fred Forstall, Co-Project Leader, (202-205-3443 or alfred.forstall@usitc.gov), or David Ingersoll, Co-Project Leader, (202-205-2218 or dave.ingersoll@usitc.gov). For information on legal aspects of the investigation, contact William Gearhart of the Commission's Office of the General Counsel at 202-205-3091 or william.gearhart@usitc.gov. The media should contact Margaret O'Laughlin, Office of External Relations at 202-205-1819 or margaret.olaughlin@usitc.gov. Hearing impaired individuals are advised that information on this matter can be obtained by contacting the TDD terminal on 202-205-1810. General information concerning the Commission may also be obtained by accessing its Internet server (http://www.usitc.gov). Persons with mobility impairments who will need special assistance in gaining access to the Commission should contact the Secretary at 202-205-2000.

SUPPLEMENTARY INFORMATION: As requested by the Committee, the Commission will conduct an investigation and provide a report that contains, to the extent possible, the following information:

1. An overview of the U.S. markets for solid and engineered wood flooring (both unfinished and factory finished products), and hardwood plywood;

2. A description of the U.S. industries for wood flooring and hardwood plywood and the industries in the principal countries (including Canada, China, Brazil, Indonesia, Malaysia, and Russia) supplying the U.S. market, including trends in production, capacity, employment, and consumption;

3. An examination of U.S. trade patterns and the factors affecting trade patterns, including tariffs and other border measures;

4. An analysis of the factors affecting the competitive position of U.S. producers and the principal foreign suppliers to the U.S. market including raw materials, illegal logging, technological capabilities, labor practices, environmental policies, government programs, and substitutes for wood flooring and hardwood plywood;

5. Views of industry, homebuilders, importers and other interested parties on developments in the supply of and the demand for wood flooring and hardwood plywood, including the effect of imports and substitutes for each product.

As requested by the Committee, the Commission will provide its report no later than June 6, 2008.

Public Hearing: A public hearing in connection with this investigation will be held beginning at 9:30 a.m. on September 13, 2007, at the United States International Trade Commission Building, 500 E Street, SW., Washington, DC. All persons have the right to appear by counsel or in person, to present information, and to be heard. Requests to appear at the public hearing should be filed with the Secretary not later than the close of business (5:15 p.m.) on August 22, 2007, in accordance with the requirements in the “Submissions” section below. Any pre-hearing briefs or statements should be filed not later than 5:15 p.m., August 29, 2007. The deadline for filing post-hearing briefs and statements is 5:15 p.m., October 5, 2007. In the event that, as of the close of business on August 22, 2007, no witnesses are scheduled to appear at the hearing, the hearing will be cancelled. Any person interested in attending the hearing as an observer or non-participant may call the Secretary (202-205-2000) after August 22, 2007, to determine whether the hearing will be held.

Written Statements: In lieu of or in addition to participating in the hearing, interested parties are invited to submit written statements concerning this investigation. All submissions should be addressed to the Secretary, and should be received no later than the close of business on December 28, 2007. All written submissions must conform with the provisions of § 201.8 of the Commission's Rules of Practice and Procedure (19 CFR 201.8). Section 201.8 of the rules requires that a signed original (or a copy designated as an original) and fourteen (14) copies of each document be filed. In the event that confidential treatment of the document is requested, at least four (4) additional copies must be filed, in which the confidential information must be deleted. The Commission's rules do not authorize filing submissions with the Secretary by facsimile or electronic means, except as permitted by section 201.8 of the Commission's Rules of Practice and Procedure (19 CFR 201.8) (See Handbook for Electronic Filing Procedures, http://www.usitc.gov/secretary/fed_reg_notices/rules/documents/handbook_on_electronic_filing.pdf. Any submissions that contain confidential business information must also conform with the requirements of § 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available for inspection by interested parties. In its request letter, the Committee stated that it intends to make the Commission's report available to the public in its entirety, and asked that the Commission not include any confidential business information in the report it sends to the Committee. The report that the Commission sends to the Committee will not contain any such information. Any confidential business information received by the Commission in this investigation and used in preparing the report will not be published in a manner that would reveal the operations of the firm supplying the information.

Issued: April 16, 2007.
By order of the Commission.
Marilyn R. Abbott,
Secretary to the Commission.

[FR Doc. E7-7540 Filed 4-19-07; 8:45 am]

BILLING CODE 7020-02-P